DEPARTMENT OF HEALTH AND HUMAN SERVICES

Office of Public Health and Science; Office of the Secretary

Request for Nominations for Members of the Chronic Fatigue Syndrome Advisory Committee

The Office of Public Health and Science (OPHS), Department of Health and Human Services (DHHS), request nominations for representatives to serve on the Chronic Fatigue Syndrome Advisory Committee (CFSAC). Nominations are solicited for biomedical research scientists with demonstrated achievements in biomedical research relating to Chronic Fatigue Syndrome (CFS); individuals with expertise in health care delivery, private health care services or insurers, or voluntary organizations concerned with the problems of individuals with CFS.

DHHS has a strong interest in ensuring that women, minority groups, and physically challenged individuals are adequately represented on the Committee and, therefore, encourages nominations of qualified candidates from these groups. DHHS also encourages geographic diversity in the composition of the Committee.

Information Required: A nominations package must include the following information for each nominee:

1. A letter of nomination stating the name, affiliation, and contact information for the nominee, the basis for the nomination (i.e., what specific attributes recommend him/her for service in this capacity), and the nominee's area of expertise;

2. A biographical sketch of the nominee and a copy of his or her curriculum vitae; and

3. The name, return address, and daytime telephone number at which the nominator can be contacted. Organizational nominators must identify a principal contact person in addition to contact information. Optimally, a nomination package would also include a statement by the nominee that he/she is willing to accept an appointment to Committee membership.

All nomination information for a nominee must be provided in a complete single package within 45 days of the publication of this notice. Incomplete nominations cannot be considered. The nomination letter must bear an original signature; facsimile transmissions or copies are not acceptable.

DATES: All nominations must be received at the address below no later than 4 p.m. EDT within 45 days of the publication of this notice.

ADDRESSES: All nomination packages shall be submitted to Debra Nichols, MD, MPH, Executive Secretary, CFSAC, Office of Disease Prevention and Health Promotion, 200 Independence Ave, Room 738G, Washington, DC 20201.

FOR FURTHER INFORMATION CONTACT: Debra Nichols, MD at the above address or at 202-401-0735, or e-mail at dnichols@osophs.dhhs.gov.

Dated: December 6, 2002.
Debra Nichols,
Executive Secretary, CFSAC, Office of Disease Prevention and Health Promotion, Office of Public Health and Science, DHHS.

[FR Doc. 02-31829 Filed 12-17-02; 8:45 am]

BILLING CODE 4140-01-M